DEPARTMENT OF HEALTH AND HUMAN SERVICES

Notice of Meeting of the President Advisory Council on HIV/AIDS

January 3, 2002.

Pursuant to Pub. L. 92-463, notice is hereby given of the meeting of the Presidential Advisory Council on HIV/AIDS (Council) scheduled for January 28-29, 2001, at the White House Conference Center at 726 Jackson Place NW. The Council will meet both days from 8:30 a.m. until 5 p.m. The meetings will be open to the public, however space is limited. Possible attendees are strongly encouraged to pre-register by calling Shellie Abramson at (202) 260-8863.

Patricia Ware, Executive Director, Presidential Advisory Council on HIV and AIDS, 200 Independence Avenue, SW., Room 733-E, Washington, DC, (Voice-mail: (202) 205-2982, Fax: (202) 690-7560) will furnish the meeting agenda and roster of Council members upon request. Once a draft agenda has been finalized, it may also be accessed through the Council's website: www.pacha.gov. Any individual who requires special assistance, such as sign language interpretation or other reasonable accommodations, should contact Mike Starkweather at (301) 628-3141 no later than January 23, 2001.

Patricia Ware,
Executive Director, Presidential Advisory Council on HIV and AIDS.

[FR Doc. 02-641 Filed 1-9-02; 8:45 am]

BILLING CODE 3195-01-M